DEPARTMENT OF COMMERCE

International Trade Administration

[A-570-848]

Freshwater Crawfish Tail Meat from the People's Republic of China; Notice of Final Results of Antidumping Duty Administrative Review, and Final Rescission of Review, in Part

AGENCY: Import Administration, International Trade Administration, U.S. Department of Commerce.

SUMMARY: On June 14, 2004, the Department of Commerce (the Department) published the preliminary results of its administrative review of the antidumping duty order on freshwater crawfish tail meat from the People's Republic of China (PRC). See Freshwater Crawfish Tail Meat from the People's Republic of China: Notice of Preliminary Results of Antidumping Duty Administrative Review and Intent to Rescind, in Part, 69 FR 32979 (Preliminary Results). We invited interested parties to submit comments and only received comments pertaining to the company the review of which we had preliminarily determined to rescind. These comments are addressed below in the section Final Rescission of Administrative Review, in Part. The final antidumping duty rates are set forth in the section Final Results of Review below. The administrative review covers the period September 1, 2002, through August 31, 2003.

EFFECTIVE DATE: October 20, 2004.

FOR FURTHER INFORMATION CONTACT: Scot Fullerton or Matthew Renkey, Antidumping/Countervailing Duty Operations, Office VI, Import Administration, International Trade Administration, U.S. Department of Commerce, 14th Street and Constitution Avenue, NW, Washington, DC 20230; telephone (202) 482-1386 or (202) 482-2312, respectively.

SUPPLEMENTARY INFORMATION:

Background

On June 14, 2004, the Department published the preliminary results of its administrative review of the antidumping duty order on freshwater crawfish tail meat from the PRC. See Preliminary Results. The administrative review covers the period September 1, 2002, through August 31, 2003. The review covers the following companies: Hubei Qianjiang Houhu Cold & Processing Factory (Hubei Houhu), Shouzhou Huaxiang Foodstuffs Co., Ltd. (Shouzhou Huaxiang), Qingdao Jinyongxiang Aquatic Foods Co., Ltd. (Qingdao JYX), and Nantong Shengfa Frozen Food Co., Ltd. (Nantong Shengfa). We are rescinding the review for Shanghai Ocean Flavor International Trading Co., Ltd. (Shanghai Ocean Flavor).

Scope of the Antidumping Duty Order

The product covered by the antidumping duty order is freshwater crawfish tail meat, in all its forms (whether washed or with fat on, whether purged or unpurged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTSUS) under item numbers 1605.40.10.10, 1605.40.10.90, 0306.19.00.10 and 0306.29.00.00. The HTSUS subheadings are provided for convenience and customs purposes only. The written description of the scope of this order is dispositive.

Final Rescission of Administrative Review, in Part

Shanghai Ocean Flavor

In the Preliminary Results, the Department stated its intention to rescind the administrative review with respect to Shanghai Ocean Flavor because we were conducting a new shipper review that covered all of Shanghai Ocean Flavor's exports during the period of review (POR). See 19 CFR 351.214(j). We received no comments. Subsequent to the Preliminary Results, and subsequent to the due date for comments on the Preliminary Results, the Department rescinded the new shipper review of Shanghai Ocean Flavor. See Notice of Rescission of Antidumping Duty New Shipper Review of Shanghai Ocean Flavor International Trading Co., Ltd.: Freshwater Crawfish Tail Meat from the People's Republic of China, 69 FR 45674 (July 30, 2004). Because we rescinded Shanghai Ocean Flavor's new shipper review after the due date for comments on our preliminary decision to rescind the administrative review, we provided parties with another opportunity to comment on the treatment of Shanghai Ocean Flavor in the administrative review. See the Department's letter to parties regarding the treatment of Shanghai Ocean Flavor, dated September 3, 2004.

On September 10, 2004, the petitioners withdrew their request for an administrative review of Shanghai Ocean Flavor. Shanghai Ocean Flavor did not submit any comments on, nor did it object to, petitioners' withdrawal of their review request. The applicable regulation, 19 CFR 351.213(d)(1), states that if a party that requested an administrative review withdraws the request within 90 days of the date of publication of the notice of initiation of the requested review, the Secretary will rescind the review. Although the request for rescission was made after the 90-day deadline, in accordance with 19 CFR 351.213(d)(1), the Secretary may extend this time limit if the Secretary decides it is reasonable to do so. The petitioners were the only parties to request an administrative review of Shanghai Ocean Flavor. Moreover, no party commented on petitioners' withdrawal of their review request. Therefore, we find it reasonable to accept the petitioners' withdrawal of their request for a review. Consequently, we are rescinding this review of the antidumping duty order on freshwater crawfish tail meat for Shanghai Ocean Flavor covering the period September 1, 2002, through August 31, 2003.

Application of Facts Available

Nantong Shengfa, Hubei Houhu, Shouzhou Huaxiang, and Qingdao JYX,

The Department received no comments on its preliminary determination to apply adverse facts available (AFA) to Nantong Shengfa, Hubei Houhu, Shouzhou Huaxiang, and Qingdao JYX. Therefore, we have not altered our decision to apply AFA to these companies for these final results, in accordance with sections 776(a)(2)(A) and (B), as well as section 776(b) of the Tariff Act of 1930, as amended (the Act). As AFA, the Department is assigning these companies the rate of 223.01 percent the highest rate determined in any segment of this proceeding. See Freshwater Crawfish Tail Meat from the People's Republic of China; Notice of Final Results of Antidumping Duty Administrative Review, and Final Partial Rescission of Antidumping Duty Administrative Review, 67 FR 19546 (April 22, 2002) (99-00 Final Results). For a complete discussion of the Department's reasons for applying total AFA, not granting a separate rate to these companies, and the selection and corroboration of the AFA rate, see the Preliminary Results.

Final Results of Review

For these final results we determine that the following dumping margin exists:

Manufacturer and Exporter | Period of Review | Margin (percent)
PRC-Wide Rate¹ | 9/1/02-8/31/03 | 223.01
¹ Nantong Shengfa, Hubei Houhu, Shouzhou Huaziang, and Qingdao JYX are now included in the PRC-wide rate.

Cash Deposit Requirements

The following deposit requirements will be effective upon publication of these final results for this administrative review for all shipments of freshwater crawfish tail meat from the PRC entered, or withdrawn from warehouse, for consumption on or after the date of publication, as provided by section 751(a)(2)(C) of the Act: (1) for previously-reviewed PRC and non-PRC exporters with separate rates, the cash deposit rate will be the company-specific rate established for the most recent period; (2) for PRC exporters which do not have a separate rate, including the exporters named in the footnote above, the cash deposit rate will be the PRC-wide rate of 223.01 percent; and (3) for all other non-PRC exporters of the subject merchandise, the cash deposit rate will be the rate applicable to the PRC exporter that supplied that non-PRC exporter. These deposit requirements shall remain in effect until publication of the final results of the next administrative review.

Assessment of Antidumping Duties

The Department shall determine, and Customs and Border Protection (CBP) shall assess, antidumping duties on all appropriate entries. For assessment purposes, we will direct CBP to assess the ad valorem rates against the entered value of each entry of the subject merchandise during the POR. The Department will issue appropriate assessment instructions directly to CBP within 15 days of publication of the final results of review. Since we have rescinded the administrative review of Shanghai Ocean Flavor, we will issue assessment instructions to CBP within 15 days of publication of this notice to liquidate the entries from this company during the POR at the cash deposit rate in effect on the date of entry.

Notification to Importers

This notice serves as a final reminder to importers of their responsibility undersection 351.402(f) of the Department's regulations to file a certificate regarding the reimbursement of antidumping duties prior to liquidation of the relevant entries during this review period. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return/destruction of APO materials or conversion to judicial protective order is hereby requested. Failure to comply with the regulations and the terms of an APO is a sanctionable violation.

This administrative review and notice are in accordance with sections 751(a)(1) and 777(i)(1) of the Act.

Dated: October 12, 2004.
James J. Jochum,
Assistant Secretary for Import Administration.

[FR Doc. E4-2732 Filed 10-19-04; 8:45 am]

BILLING CODE 3510-DS-S